DEPARTMENT OF ENERGY

Federal Energy Regulatory Commission

[Project No. 2740-051]

Duke Energy Carolinas, LLC; Notice of Application Accepted for Filing and Soliciting Comments, Motions To Intervene, and Protests

Take notice that the following hydroelectric application has been filed with the Commission and is available for public inspection:

a. Application Type: Non-Capacity Amendment of License.

b. Project No: P-2740-051.

c. Date Filed: April 23, 2018.

d. Applicant: Duke Energy Carolinas, LLC (Duke Energy).

e. Name of Project: Bad Creek Pumped Storage Project.

f. Location: The project is located on the Bad and West Bad Creeks, in Oconee County, South Carolina.

g. Filed Pursuant to: Federal Power Act, 16 U.S.C. 791a-825r.

h. Applicant Contact: Jeffrey G. Lineberger, Duke Energy, 526 South Church Street, Mail Code EC-12Y, Charlotte, North Carolina 28202, (704) 382-5942.

i. FERC Contact: Zeena Aljibury, (202) 502-6065, zeena.aljibury@ferc.gov.

j. Deadline for Filing Comments, Motions to Intervene, and Protests: June 07, 2018.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2740-051.

k. Description of Request: Duke Energy requests approval to upgrade and refurbish four Francis-type pump-turbines in the powerhouse, replace existing runners with Francis-type pump-turbine runners, and rehabilitate and/or upgrade the remaining components of the pump-turbine runners. Duke Energy states that the upgrades and refurbishment will result in an increase of the Project's maximum hydraulic capacity of less than 15 percent during generation. The turbine installation activities are planned as a multi-year process, with one turbine-runner replacement occurring per year from 2019 through 2023. During the turbine upgrades, the appropriate unit will be dewatered and isolated from head and tail-waters by closing the spherical valves and draft gates, and by sealing the spherical valves and draft tube gates to minimize leakage. Any work which requires the lowering or draining of the upper reservoir will take place during a common system outage planned for 2018. The new pump-turbine runners will pass water at a higher flow rate between the upper and lower reservoirs. The proposed updates will not change the amount of water being transferred between reservoirs or the reservoir level, therefore, water quality is not anticipated to be affected. Additionally, the potential impact on fish resources will be limited to those associated with the fish entrainment by the project turbines and no federally protected species will be impacted. Duke Energy notes the additional capacity and system flexibility will enhance the project's ability to support Duke Energy's electric system needs.

l. Locations of the Application: A copy of the application is available for inspection and reproduction at the Commission's Public Reference Room, located at 888 First Street NE, Room 2A, Washington, DC 20426, or by calling (202) 502-8371. This filing may also be viewed on the Commission's website at http://www.ferc.gov using the “eLibrary” link. Enter the docket number excluding the last three digits (P-2740) in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Motions to Intervene, or Protests: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis and otherwise comply with the requirements of 18 CFR 4.34(b). All comments, motions to intervene, or protests should relate to project works that are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: May 7, 2018.
Kimberly D. Bose,
Secretary.

[FR Doc. 2018-10074 Filed 5-10-18; 8:45 am]

BILLING CODE 6717-01-P